DEPARTMENT OF ENERGY

Federal Energy Regulatory Commission

[Docket No. EL05-123-000]

New York Power Authority, Complainant v. Consolidated Edison Company of New York, Inc., Respondent; Notice of Complaint

June 3, 2005.

Take notice that on June 2, 2005, the New York Power Authority (NYPA) filed a Complaint against Consolidated Edison Company of New York, Inc. (Con Edison). The Complaint asserts that Con Edison is unlawfully interfering with the enrollment of NYPA generating plants in the Station Power Program of the New York Independent System Operator, and that Con Edison should be required to refund to NYPA, with interest, station power delivery charges that NYPA has paid to Con Edison.

NYPA states that copies of the Complaint have been served by e-mail, messenger, or overnight delivery on Con Edison, as well as the New York Public Service Commission.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. The Respondent's answer and all interventions, or protests must be filed on or before the comment date. The Respondent's answer, motions to intervene, and protests must be served on the Complainants.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First Street, NE., Washington, DC 20426.

The filing in the above proceeding is accessible in the Commission's eLibrary system. It is also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Comment Date: 5 p.m. on July 5, 2005.

Linda Mitry,
Deputy Secretary.

[FR Doc. E5-2963 Filed 6-8-05; 8:45 am]

BILLING CODE 6717-01-P